DEPARTMENT OF JUSTICE

Office of Justice Programs

[OJP (OVC) Docket No. 1684]

Meeting of the National Coordination Committee on the AI/AN SANE-SART Initiative

AGENCY: Office for Victims of Crime, Justice.

ACTION: Notice of meeting.

SUMMARY: The National Coordination Committee on the American Indian/Alaska Native (AI/AN) Sexual Assault Nurse Examiner (SANE)—Sexual Assault Response Team (SART) Initiative (“National Coordination Committee” or “Committee”) will meet to carry out its mission to provide advice to assist the Office for Victims of Crime (OVC) to promote culturally relevant, victim-centered responses to sexual violence within AI/AN communities.

Dates and Locations: The meeting will be held via webinar on Wednesday, February 18, 2015. The webinar is open to the public for participation. There will be a designated time for the public to speak, and the public can observe and submit comments in writing to Shannon May, the Designated Federal Official. Webinar space is limited. To register for the webinar, please provide your full contact information to Shannon May (contact information below).

FOR FURTHER INFORMATION CONTACT: Shannon May, Designated Federal Officer (DFO) for the National Coordination Committee, Federal Bureau of Investigation, Office for Victim Assistance, 935 Pennsylvania Ave. NW., Room 3329, Washington, DC 20535; Phone: (202) 323-9468 [note: this is not a toll-free number]; Email: shannon.may@ic.fbi.gov.

SUPPLEMENTARY INFORMATION: The National Coordination Committee on the American Indian/Alaskan Native (AI/AN) Sexual Assault Nurse Examiner (SANE)- Sexual Assault Response Team (SART) Initiative (“National Coordination Committee” or “Committee”) was established by the Attorney General to provide valuable advice to OVC to encourage the coordination of federal, tribal, state, and local efforts to assist victims of sexual violence within AI/AN communities, and to promote culturally relevant, victim-centered responses to sexual violence within those communities.

Webinar Agenda: The agenda will include: (a) A traditional welcome and introductions; (b) remarks from the Director of OVC; (c) an update on the submission of the Committee's Recommendations Report to the Attorney General; (d) a discussion about the ongoing role of the Committee; (e) comments by members of the public; and (f) a traditional closing.

Shannon May,
Project Manager—Victims of Crime, National Coordinator, AI/AN SANE-SART Initiative, Designated Federal Official—National Coordination Committee, Federal Bureau of Investigation, Office for Victim Assistance.

[FR Doc. 2015-01671 Filed 1-28-15; 8:45 am]

BILLING CODE 4410-18-P